DEPARTMENT OF COMMERCE

International Trade Administration, Commerce

Export Trade Certificate of Review

ACTION: Notice of Issuance of an Amended Export Trade Certificate of Review, Application No. 85-15A18.

SUMMARY: On December 16, 2008, the U.S. Department of Commerce issued an amended Export Trade Certificate of Review to U.S. Shippers Association (“USSA”).

FOR FURTHER INFORMATION CONTACT: Jeffrey C. Anspacher, Director, Export Trading Company Affairs, International Trade Administration, (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR Part 325 (2008).

Export Trading Company Affairs (“ETCA”) is issuing this notice pursuant to 15 CFR 325.6(b), which requires the U.S. Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

The original USSA Certificate (No. 85-00018) was issued on June 3, 1986 (51 FR 20873, June 9, 1986), and last amended on January 16, 2008 (73 FR 3944, January 23, 2008).

USSA's Export Trade Certificate of Review has been amended to:

Proposed Amendment: USSA seeks to amend its Certificate to:

1. Add each of the following companies as a new “Member” of the Certificate within the meaning of section 325.2(1) of the Regulations (15 CFR 325.2(1)): Guardian Industries Corp., Auburn Hills, Michigan; Alpharma Inc., Bridgewater, New Jersey; LyondellBasell Industries A.F.S.C.A., Rotterdam, The Netherlands;

2. Delete the following companies as “Members” of the Certificate: Arch Chemicals, Inc., Norwalk, Connecticut; Basell USA, Inc., Wilmington, Delaware (Controlling Entity: Basell NV, The Netherlands); Dawn K. Peterson, Katy, Texas; and Carrie M. Bowden, Missouri City, Texas; and

3. Change the address of the current Member from “JWC and Company LLC, of Macungie, Pennsylvania” to “JWC and Company, LLC, of Canton, Michigan”.

The effective date of the amended certificate is September 17, 2008. A copy of the amended certificate will be kept in the International Trade Administration's Freedom of Information Records Inspection Facility, Room 4100, U.S. Department of Commerce, 14th Street and Constitution Avenue, NW., Washington, DC 20230.

Dated: December 16, 2008.
Jeffrey Anspacher,
Director, Export Trading Company Affairs.

[FR Doc. E8-30290 Filed 12-19-08; 8:45 am]

BILLING CODE 3510-DR-P